FEDERAL MINE SAFETY AND HEALTH REVIEW COMMISSION

Sunshine Act, Meetings

October 15, 2003.

Time and Date: 10 a.m., Thursday, October 23, 2003.

Place: Hearing Room, 9th Floor, 601 New Jersey Avenue, NW., Washington, DC

Status: Open.

Matters to be Considered: The Commission will consider and act upon the following in open session:

Secretary of Labor v. Rag Shoshone Coal Corporation, Docket No. WEST 99-342-R, WEST 99-384-R and WEST 2000-349. (Issues include whether the judge correctly concluded that the Secretary of Labor's interpretation of 30 CFR 70.207(e)(7) was reasonable; whether the judge correctly concluded that the Secretary of Labor was not required to engage in notice-and-comment rulemaking before imposing the 060 designed occupation for purposes of sampling levels of respirable cost dust; and whether the judge correctly concluded that the Secretary of Labor's imposition of the 060 designated occupation was not arbitrary, capricious, or an abuse of discretion.)

The Commission heard oral argument in this matter on October 9, 2003.

Any person attending this meeting who requires special accessibility features and/or auxiliary aids, such as sign language interpreters, must inform the Commission in advance of those needs. Subject to 29 CFR 2706.150(a)(3) and § 2706.160(d).

For Further Information Contact: Jean Ellen (202) 434-9950/(202) 708-9300 for TDD Relay/1-800-877-9339 for toll free.

Jean H. Ellen,
Chief Docket Clerk.

[FR Doc. 03-26778 Filed 10-20-03; 1:19 pm]

BILLING CODE 6735-01-M